DEPARTMENT OF LABOR

Employment and Training Administration

[TA-W-39, 910]

Delphi Harrison Thermal Systems, Lockport, NY; Notice of Termination of Investigation

Pursuant to Section 221 of the Trade Act of 1974, an investigation was initiated on August 27, 2001, in response to a worker petition that was filed on behalf of workers at Delphi Harrison Thermal Systems, Lockport, New York.

A NAFTA-TAA petition filed on behalf of the workers at the subject firm was terminated (NAFTA-6089, signed July 5, 2002).

This case is being terminated because the separated workers have been rehired since the filing of the petition. Consequently, further investigation in this case would serve no purpose, and the investigation has been terminated.

Signed in Washington, DC this 5th day of July 2002.
Linda G. Poole,
Certifying Officer, Division of Trade Adjustment Assistance.

[FR Doc. 02-18066 Filed 7-17-02; 8:45 am]

BILLING CODE 4510-30-P